DEPARTMENT OF DEFENSE

Office of the Secretary

[Transmittal No. 20-27]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-27 with attached Policy Justification and Sensitivity of Technology.

Dated: August 11, 2020.
Aaron T. Siegel,
Alternate OSD Federal Register Liaison Officer, Department of Defense.

BILLING CODE 5001-06-P

BILLING CODE 5001-06-C

Transmittal No. 20-27

Notice of Proposed Issuance of Letter of Offer Pursuant to Section 36(b)(1) of the Arms Export Control Act, as amended

(i) Prospective Purchaser: Government of Indonesia

(ii) Total Estimated Value:

Major Defense Equipment* | $ .8 billion
Other | $1.2 billion
TOTAL | $2.0 billion

(iii) Description and Quantity or Quantities of Articles or Services under Consideration for Purchase:

Major Defense Equipment (MDE):

Eight (8) MV-22 Block C Osprey Aircraft

Non-MDE:

Twenty-four (24) AE 1107C Rolls Royce Engines; twenty (20) AN/AAQ-27 Forward Looking InfraRed Radars; twenty (20) AN/AAR-47 Missile Warning Systems; twenty (20) AN/APR-39 Radar Warning Receivers; twenty (20) AN/ALE-47 Countermeasure Dispenser Systems; twenty (20) AN/APX-117 Identification Friend or Foe Systems (IFF); twenty (20) AN/APN-194 Radar Altimeters; twenty (20) AN/ARN-147 VHF OmniDirectional Range (VOR) Instrument Landing System (ILS) Beacon Navigation Systems; forty (40) ARC-210 629F-23 Multi-Band Radios (Non-COMSEC); twenty (20) AN/ASN-163 Miniature Airborne Global Positioning System (GPS) Receivers (MAGR); twenty (20) AN/ARN-153 Tactical Airborne Navigation Systems; twenty (20) Traffic Collision Avoidance Systems (TCAS II); twenty (20) M-240-D 7.64mm Machine Guns; twenty (20) GAU-21 Machine Guns; Joint Mission Planning Systems (JMPS) with unique planning components; publications and technical documentation; aircraft spares and repair parts; repair and return; aircraft ferry services; tanker support; support and test equipment; personnel training and training equipment; software; U.S. Government and contractor engineering, logistics, and technical support services; and other elements of technical and program support.

(iv) Military Department: Navy (ID-P-SAI)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: July 6, 2020

*As defined in Section 47(6) of the Arms Export Control Act.

POLICY JUSTIFICATION

Indonesia - MV-22 Block C Osprey Aircraft

The Government of Indonesia has requested to buy eight (8) MV-22 Block C Osprey aircraft. Also included are twenty-four (24) AE 1107C Rolls Royce Engines; twenty (20) AN/AAQ-27 Forward Looking InfraRed Radars; twenty (20) AN/AAR-47 Missile Warning Systems; twenty (20) AN/APR-39 Radar Warning Receivers; twenty (20) AN/ALE-47 Countermeasure Dispenser Systems; twenty (20) AN/APX-117 Identification Friend or Foe Systems (IFF); twenty (20) AN/APN-194 Radar Altimeters; twenty (20) AN/ARN-147 VHF OmniDirectional Range (VOR) Instrument Landing System (ILS) Beacon Navigation Systems; forty (40) ARC-210 629F-23 Multi-Band Radios (Non-COMSEC); twenty (20) AN/ASN-163 Miniature Airborne Global Positioning System (GPS) Receivers (MAGR); twenty (20) AN/ARN-153 Tactical Airborne Navigation Systems; twenty (20) Traffic Collision Avoidance Systems (TCAS II); twenty (20) M-240-D 7.64mm Machine Guns; twenty (20) GAU-21 Machine Guns; Joint Mission Planning Systems (JMPS) with unique planning components; publications and technical documentation; aircraft spares and repair parts; repair and return; aircraft ferry services; tanker support; support and test equipment; personnel training and training equipment; software; U.S. Government and contractor engineering, logistics, and technical support services; and other elements of technical and program support. The estimated total cost is $2.0 billion.

This proposed sale will support the foreign policy goals and national security objectives of the United States by improving the security of an important regional partner that is a force for political stability, and economic progress in the Asia-Pacific region. It is vital to U.S. national interest to assist Indonesia in developing and maintaining a strong and effective self-defense capability.

The proposed sale of aircraft and support will enhance Indonesia's humanitarian and disaster relief capabilities and support amphibious operations. This sale will promote burden sharing and interoperability with U.S. Forces. Indonesia is not expected to have any difficulties absorbing these aircraft into its armed forces.

The proposed sale of this equipment and support will not alter the basic military balance in the region.

The prime contractors will be Bell Textron Inc., Amarillo, Texas and The Boeing Company, Ridley Park, Pennsylvania. There are no known offset agreements proposed in connection with this potential sale.

Implementation of this proposed sale will require travel by the U.S. Government personnel and contractor representatives to Indonesia on a temporary basis to provide program technical support and program management oversight.

There will be no adverse impact on U.S. defense readiness as a result of this proposed sale.

Transmittal No. 20-27

Notice of Proposed Issuance of Letter of Offer Pursuant to Section 36(b)(1) of the Arms Export Control Act

Annex

Item No. vii

(vii) Sensitivity of Technology:

1. The MV-22 Osprey is a U.S.-military, multi-mission, Tilt-Rotor aircraft with both a Vertical Takeoff and Landing (VTOL) and Short Takeoff and Landing (STOL) capability. It is designed to combine the functionality of a conventional helicopter with the long-range, high-speed cruise performance of a turboprop aircraft.

2. The AN/AAQ-27A Forward Looking InfraRed (FLIR) is a third-generation, mid-wavelength infrared (MWIR) imaging system that allows aircrews to see through darkness, smoke, haze, and adverse weather. The system incorporates a state-of-the-art MWIR indium-antimonide (InSb) staring focal plane array with 480 x 640 detector elements. It has demonstrated superb image quality and range performance using non-developmental, in-production components to provide higher resolution imagery than current long wavelength infrared systems.

3. The AN/APR-39 Radar Warning Receiver (RWR) System monitors the environment for pulsed radar signals, characterizes and identifies them, and alerts the crew to the existence of emitters. The AN/APR-39 contributes to full-dimensional protection by improving individual aircraft probability of survival through improved aircrew situational awareness of the electromagnetic threat environment. These systems have specific aircraft applications providing varying levels and types of warning to allow aircrews to initiate evasive maneuvers or deploy active countermeasures.

4. The AN/ALE-47 Countermeasure Dispenser System (CMDS) is an Electronic Warfare (EW) System providing combat aircrews with enhanced survivability in all threat environments. This on-board, self-protection capability stems from the integration of RWR hardware with a system for the dispensing of expendable countermeasures. The AN/ALE47 CMDS provides the aircrew with a “smart“ countermeasure dispensing system, allowing the aircrew to optimize the countermeasures employed against anti-aircraft threats. The systems consists of five major components and several sub-components.

5. The AN/AAR-47 is an Electronic Warfare (EW) system designed to protect aircraft against Infrared-Guided (IR) missile threats, laser-guided/laser-aided threats, and unguided munitions. Upon detection of the threat, the system will provide an audio and visual sector warning to the pilot. For IR missile threats, the system automatically initiates countermeasures by sending a command signal to the CMDS. The AN/AAR-47 includes sensor pre-processing for improved performance in high-clutter environments.

6. AN/APX-117 is a commercially available Identification Friend or Foe (IFF) transponder that incorporates all of the advanced features required in today's global military and civil air traffic control environments. The transponder's open-system architecture design and high-density field- programmable gate array technology ensures ongoing versatility and future utility through software growth, without the risk and cost associated with hardware modifications. The AN/APX-117 supports IFF modes 1, 2, 3/A, C. It is Automatic Dependent Surveillance - Broadcast (ADS-B) complaint and is compatible with Multifunctional Information Distribution System (MIDS) and Joint Tactical Information Distribution System (JTIDS).

7. The AN/ARN-153 is a full-featured Tactical Air Navigation (TACAN) system capable of supporting the operational requirements of high performance aircraft in a lightweight compact design. The AN/ARN-153 supports four modes of operation: receive mode; transmit-receive mode; air-to-air receive mode; and air-to-air transmit-receive mode.

8. The AN/ARN-147 systems combines all Very High Frequency (VHF) Omni Ranging/Instrument Landing System (VOR/ILS) functions into once compact, lightweight, low-cost set. It is the first militarized VHF navigation receiver to provide optional internal MIL-STD-15538 capability. The solid-state system is MIL-E-5400 class II qualified and meets international operability requirements by providing 50-kHz channel spacing for 160-VOR and 40-localizer/glideslope channels. Digital and analog outputs of the AN/ARN-147 ensure compatibility with high-performance flight control systems and both digital and analog instruments. Modular construction techniques give quick access to all cards and modules to reduce repair time.

9. The AN/ARC-210 629F-23 (non-COMSEC) multimode integrated communication system is designed to provide multimode voice and data communications in either normal or jam-resistant modes in line-of-sight mode. The system is capable of establishing 2-way communication links over the 30 to 512MHz frequency range in tactical aircraft environments.

10. The AN/APN-194 Radar Altimeter Receiver-Transmitter is a high-resolution device which measures altitude from 0 to 5,000 feet Above Ground Level (AGL). The radar altimeter measures the time (analogous to distance) required for a pulse of electromagnetic energy to travel from the aircraft to the ground and back to the aircraft. The AN/APN-194 employs a narrow-pulse transmission in the C-band range with leading edge tracking of the echo pulse. Altitude range information is obtained by comparing the received echo pulse with a timed ramp voltage generated simultaneously with the transmitted pulse. The output of the AN/APN-194 is fed into the autopilot of the target to control the altitude of low-flying targets.

11. The AN/ASN-163 is a 5-channel Miniature Airborne GPS Receiver (MAGR) that provides Over-The-Horizon and secure navigation capabilities using satellite information.

12. The M240 Machine Gun (7.62mm) is a defensive weapon system used to support troop insertion and medical evacuation missions.

13. The Joint Mission Planning System (JMPS) is a PC-based common approach for aircraft mission planning. It is a system of common and host-platform-unique mission planning applications for Navy and Marine Corps aircraft. Using a “building block“ approach, developers integrate and assemble a JMPS Mission Planning Environment (MPE) from a set of software sub-components to meet the needs of a particular aircraft type. An MPE consists of a framework, one or more common components/federated applications, and a Unique Planning Component (UPC). The foundation of an MPE is the framework, which allows the host operating system to interface and interact with the MPE. The second level of an MPE consists of the common components and/or federated applications; these applications provide functionality that is common to multiple aircraft platforms (i.e. weather or GPS munitions). The final level of software is the UPC, which provides platform-specific functionality and integrates the common components functions and the framework interface to produce the overall mission planning software environment for the platform. When bundled, the three levels of software become an MPE that is specific to a single aircraft type. Depending on the aircraft model, a JMPS MPE might operate on a stand-alone, locally networked, or domain controlled, or a mixture of all three operating environments.

14. The highest level of classification of defense articles, components, and services included in this potential sale is SECRET.

15. If a technologically advanced adversary were to obtain knowledge of the hardware and software elements, the information could be used to develop countermeasures or equivalent systems which might reduce system effectiveness or be used in the development of a system with similar or advanced capabilities.

16. A determination has been made that the Government of Indonesia can provide substantially the same degree of protection for the sensitive technology being released as the U.S. Government. This sale is necessary in furtherance of the U.S. foreign policy and national security objectives outlined in the Policy Justification.

17. All defense articles and services listed in this transmittal have been authorized for release and export to Indonesia.

[FR Doc. 2020-18478 Filed 8-21-20; 8:45 am]

BILLING CODE 5001-06-P